DEPARTMENT OF STATE

22 CFR Part 171

[Public Notice 12246]

RIN 1400-AE00

Public Access to Information; Correction

AGENCY: Department of State.

ACTION: Final rule; correction.

SUMMARY: The Department of State (the Department) is correcting a final rule that appeared in the Federal Register on October 18, 2023. The document contained several formatting errors in one of the sections, which could cause confusion when the rule goes into effect on November 17, 2023.

DATES: Effective on November 17, 2023.

FOR FURTHER INFORMATION CONTACT: Alice Kottmyer, Office of the Legal Adviser, kottmyeram@state.gov, 202-647-2199.

SUPPLEMENTARY INFORMATION: Effective November 17, 2023, in FR Doc. 2023-22380 in 88 FR 71740 in the Federal Register of Wednesday, October 18, 2023, the following corrections are made:

1. On page 71745, beginning in the third column, in § 171.16, paragraph (a) is corrected to read as follows:

§ 171.16 Fees to be charged

(a) In general. The Department will charge fees for processing requests under the FOIA in accordance with the provisions of this section and with the OMB Guidelines. For purposes of assessing fees, the FOIA establishes three categories of requesters: commercial use requesters, non-commercial scientific or educational institutions or news media requesters, and all other requesters.

* * * * *

2. On page 71746, in § 171.16 in paragraph (b), beginning in the first column, remove the definition of “Charging fees”.

3. On page 71746, in § 171.16 in paragraph (b), in the second column, in the definition of “Non-commercial scientific institution,” remove the words “paragraph (b)(1) of”.

4. On page 71746, in § 171.16 in paragraph (b), in the third column, after the definition of “Search”, remove paragraphs (i) through (iii) and add paragraphs (c) introductory text and (c)(1) to read as follows:

§ 171.16 Fees to be charged

* * * * *

(c) Charging fees. In responding to FOIA requests, the Department will charge the following fees unless a waiver or reduction of fees has been granted under paragraph (j) of this section. Because the fee amounts provided below already account for the direct costs associated with a given fee type, the Department should not add any additional costs to charges calculated under this section.

(1) Search. (i) Requests made by educational institutions, non-commercial scientific institutions, or representatives of the news media are not subject to search fees. Search fees shall be charged for all other requesters, subject to the restrictions of paragraph (j) of this section. The Department may properly charge for time spent searching even if responsive records are not located, or if records are determined to be entirely exempt from disclosure.

(ii) For each hour spent by personnel searching for requested records, the fees shall be as stated at the following website: foia.state.gov/Request/Guide.aspx (section VII, “Fees”) and www.stateoig.gov/foiafees for OIG requested records.

(iii) For requests that require the retrieval of records stored by the Department at a Federal records center operated by the National Archives and Records Administration (NARA), the Department will charge additional costs in accordance with the Transactional Billing Rate Schedule established by NARA.

* * * * *

Kevin E. Bryant,
Deputy Director, Office of Directives Management, Department of State.

[FR Doc. 2023-23501 Filed 10-26-23; 8:45 am]

BILLING CODE 4710-24-P